DEPARTMENT OF HEALTH AND HUMAN SERVICES

Administration on Aging

[Program Announcement No. AoA-02-07]

Fiscal Year 2002 Program Announcement; Availability of Funds and Notice Regarding Applications

AGENCY: Administration on Aging, HHS.

ACTION: Announcement of availability of funds and request for applications.

SUMMARY: The Administration on Aging announces that under the Pension Information and Counseling Program, it will hold a competition to fund grant awards for two (2) to three (3) projects at a federal share of approximately $100,000 to $150,000 per year for a project period of up to three (3) years.

Purpose of grant awards: The purpose of these projects is to establish, expand or improve Pension Information and Counseling Projects to ensure that older persons eligible for pension benefits have the requisite knowledge, information and counseling to fully exercise their rights and entitlements.

Eligibility for grant awards and other requirements: Eligibility for grant awards is open to public and/or non-profit agencies, faith-based and community-based organizations with a proven record of providing services related to the retirement of older persons, services to Native Americans, or specific pension counseling. Grantees are required to provide a 25% non-federal match.

DATES: The deadline date for the submission of applications is August 5, 2002.

ADDRESSES: Application kits are available by writing to the U.S. Department of Health and Human Services, Administration on Aging, Office of Consumer Choice and Protection, 330 Independence Ave., SW., Washington, DC 20201, or by calling 202/619-1058 or on line at: http://www.aoa.gov/t4.

Applications must be mailed or hand-delivered to the Office of Grants Management at the same address. Instructions for electronic mailing of grant applications are available at http://www.aoa.gov/egrants.

Dated: May 30, 2002.
Josefina G. Carbonell,
Assistant Secretary for Aging.

[FR Doc. 02-13930 Filed 6-3-02; 8:45 am]

BILLING CODE 4154-01-P